DEPARTMENT OF TRANSPORTATION

Federal Motor Carrier Safety Administration

[Docket No. FMCSA-2003-15892]

Qualification of Drivers; Exemption Applications; Vision

AGENCY: Federal Motor Carrier Safety Administration (FMCSA), DOT.

ACTION: Notice of applications for exemption from the vision standard; request for comments.

SUMMARY: This notice publishes the FMCSA's receipt of applications from 30 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before October 6, 2003.

ADDRESSES: You may submit comments identified by DOT DMS Docket Number FMCSA-2003-15268 by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room Pl-401 on the plaza level of the Nassif Building, 400 Seventh Street, SW., Washington, DC, between 9 a.m. and 5 p.m., Monday through Friday, except Federal Holidays.

• Federal eRulemaking Portal: Go to http://www.regulations.gov. Follow the on-line instructions for submitting comments.

Instructions: All submissions must include the agency name and docket number for this notice. For detailed instructions on submitting comments and additional information on the rulemaking process, see the Public Participation heading of the Supplementary Information section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Ms. Sandra Zywokarte, Office of Bus and Truck Standards and Operations, (202) 366-2987, FMCSA, Department of Transportation, 400 Seventh Street, SW., Washington, DC 20590-0001. Office hours are from 7:45 a.m. to 4:15 p.m., e.t., Monday through Friday, except Federal holidays.

SUPPLEMENTARY INFORMATION: Public Participation: The DMS is available 24 hours each day, 365 days each year. You can get electronic submission and retrieval help guidelines under the “help” section of the DMS Web site. If you want us to notify you that we received your comments, please include a self-addressed, stamped envelope or postcard or print the acknowledgement page that appears after submitting comments on-line.

Privacy Act: Anyone is able to search the electronic form of all comments received into any of our dockets by the name of the individual submitting the comment (or signing the comment, if submitted on behalf of an association, business, labor union, etc.). You may review the Department of Transportation's complete Privacy Act Statement in the Federal Register published on April 11, 2000 (Volume 65, Number 70; Pages 19477-78) or you may visit http://dms.dot.gov.

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 30 individuals listed in this notice have recently requested an exemption from the vision requirement in 49 CFR 391.41(b)(10), which applies to drivers of CMVs in interstate commerce. Accordingly, the agency will evaluate the qualifications of each applicant to determine whether granting the exemption will achieve the required level of safety.

Qualifications of Applicants

1. Lauren C. Allen

Mr. Allen, age 58, has amblyopia in his right eye. His visual acuity in the right eye is 20/150 and in the left, 20/30. Following an examination in 2003, his optometrist certified, “In my professional opinion, this patient has sufficient vision to perform the driving tasks required to operate a commercial vehicle under any conditions.” Mr. Allen reported that he has driven tractor-trailer combinations for 32 years, accumulating 1.6 million miles. He holds a Class A commercial driver's license (CDL) from New York. His driving record for the last 3 years shows no accidents or convictions for moving violations in a CMV.

2. Tracey A. Ammons

Mr. Ammons, 46, has amblyopia in his left eye. His best-corrected visual acuity in the right eye is 20/20 and in the left, 20/100. Following an examination in 2003, his optometrist certified, “His vision is sufficient to operate a commercial vehicle.” Mr. Ammons reported that he has driven tractor-trailer combinations for 13 years, accumulating 955,000 miles. He holds a Class A CDL from North Carolina. His driving record for the last 3 years shows one accident and no convictions for moving violations in a CMV. According to the police report, another driver slid through a stop sign due to icy road conditions and struck Mr. Ammons' vehicle. Neither driver was cited.

3. Randy B. Combs

Mr. Combs, 58, has amblyopia in his left eye. His best-corrected visual acuity in the right eye is 20/15 and in the left, 20/100. His optometrist examined him in 2003 and stated, “In my opinion, Mr. Combs has more than adequate vision for safely operating a commercial vehicle.” Mr. Combs submitted that he has driven tractor-trailer combinations for 19 years, accumulating 1.4 million miles. He holds a Class DA CDL from Kentucky. His driving record for the last 3 years shows no accidents or convictions for moving violations in a CMV.

4. William J. Corder

Mr. Corder, 38, has amblyopia in his right eye. His best-corrected visual acuity in the right eye is 20/400 and in the left, 20/20. Following an examination in 2002, his ophthalmologist certified, “Visual fields overall and vision in the left eye in my opinion are sufficient to operate a commercial vehicle.” Mr. Corder reported that he has driven straight trucks for 4 years, accumulating 320,000 miles, and tractor-trailer combinations for 10 years, accumulating 1.0 million miles. He holds a Class A CDL from North Carolina. His driving record for the last 3 years shows one accident and no convictions for moving violations in a CMV. According to the police report, the accident occurred when Mr. Corder's vehicle struck a deer. He was not cited.

5. Robert L. Cross, Jr.

Mr. Cross, 41, has amblyopia in his right eye. His best-corrected visual acuity in the right eye is 20/300 and in the left, 20/20. Following an examination in 2003, his optometrist certified, “In my opinion, he should have no problems operating a commercial vehicle taking into consideration his current visual condition.” Mr. Cross reported that he has driven straight trucks for 15 years, accumulating 67,000 miles. He holds a Class F driver's license from Missouri. His driving record shows no accidents or convictions for moving violations in a CMV during the last 3 years.

6. William P. Davis

Mr. Davis, 56, has a retinal scar in his left eye due to a childhood infection. His best-corrected visual acuity in the right eye is 20/20, and in the left, hand motions. His optometrist examined him in 2002 and stated, “Paul's vision is more than adequate for any driving challenge that he may have, private or commercial.” Mr. Davis submitted that he has driven straight trucks for 38 years, accumulating 2.8 million miles. He holds a Class A CDL from Georgia. His driving record for the last 3 years shows no accidents and one conviction for a moving violation—speeding—in a CMV. He exceeded the speed limit by 9 mph.

7. Dennie R. Ferguson

Mr. Ferguson, 48, lost his right eye due to an injury at age 13. His best-corrected visual acuity in the left eye is 20/20. Following an examination in 2003, his optometrist certified, “I feel that Mr. Ferguson's vision is sufficient to perform the driving tasks required to operate a commercial vehicle.” Mr. Ferguson reported that he has driven tractor-trailer combinations for 17 years, accumulating 1.5 million miles. He holds a Class A CDL from Arkansas. His driving record for the last 3 years shows no accidents or convictions for moving violations in a CMV.

8. Edward J. Genovese

Mr. Genovese, 38, has amblyopia in his right eye. His best-corrected visual acuity in the right eye is 20/60 and in the left, 20/20. Following an examination in 2003, his optometrist certified, “I believe that with his prior driving experience and his current visual acuity, he is capable of performing duties required to operate a commercial vehicle.” Mr. Genovese reported that he has driven straight trucks for 19 years, accumulating 665,000 miles, and tractor-trailer combinations for 16 years, accumulating 560,000 miles. He holds a Class A CDL from Illinois. His driving record for the last 3 years shows no accidents and one conviction for a moving violation—“disregarding an official traffic device”—in a CMV.

9. Dewayne E. Harms

Mr. Harms, 62, lost his left eye due to an injury at age 3. His best-corrected visual acuity in the right eye is 20/20. Following an examination in 2002, his ophthalmologist certified, “Finally it is my medical opinion that Mr. Harms has sufficient vision to perform driving tasks required to operate a commercial vehicle.” Mr. Harms reported that he has driven tractor-trailer combinations for 28 years, accumulating 280,000 miles. He holds a Class A CDL from Illinois. His driving record for the last 3 years shows no accidents or convictions for moving violations in a CMV.

10. Mark D. Kraft

Mr. Kraft, 49, sustained an injury to his right eye at age 13. His best-corrected visual acuity in the right eye is light perception and in the left, 20/20. Following an examination in 2003, his optometrist certified, “Considering the longstanding duration and stability of vision loss of the left eye associated with Mr. Mark Kraft and his unremarkable driving record, I feel Mr. Kraft has sufficient vision to perform the driving tasks required to operate commercial vehicles.” Mr. Kraft reported that he has driven straight trucks for 27 years, accumulating 885,000 miles. He holds a Class B CDL from Illinois. His driving record for the last 3 years shows no accidents or convictions for moving violations in a CMV.

11. David F. LeClerc

Mr. LeClerc, 44, lost his right eye due to a childhood injury. The visual acuity in his left eye is 20/20. Following an examination in 2003 his optometrist stated, “It is my medical opinion that Mr. LeClerc has no visual limitations that would inhibit his ability to operate a commercial vehicle.” Mr. LeClerc submitted that he has driven tractor-trailer combinations for 25 years, accumulating 3.1 million miles. He holds a Class A CDL from Minnesota. His driving record for the last 3 years shows no accidents and one conviction for a moving violation—speeding—in a CMV. He exceeded the speed limit by 11 mph.

12. Roger J. Mason

Mr. Mason, 60, has had a torn iris in his right eye for 54 years. His best-corrected visual acuity in the right eye is 20/80 and in the left, 20/20. His optometrist examined him in 2003 and stated, “In my optometric opinion, Mr. Roger J. Mason has sufficient vision to perform driving tasks required to operate a commercial vehicle.” Mr. Mason reported that he has driven straight trucks for 3 years, accumulating 210,000 miles, and tractor-trailer combinations for 37 years, accumulating 3.1 million miles. He holds a Class A CDL from Maryland. His driving record for the last 3 years shows no accidents or convictions for moving violations in a CMV.

13. David L. Menken

Mr. Menken, 47, lost his right eye in 1999 due to an injury. His visual acuity in the left eye is 20/20. Following an examination in 2003, his ophthalmologist certified, “In my opinion, he is medically and visually stable to perform the driving tasks necessary to operate a commercial vehicle.” Mr. Menken reported that he has driven tractor-trailer combinations for 20 years, accumulating 2.4 million miles. He holds a class AM CDL from New York. His driving record for the last 3 years shows no accidents and two convictions for moving violations—“disregarding a traffic control device” and “obstructing an intersection”—in a CMV.

14. Richard L. Messinger

Mr. Messinger, 74, has amblyopia in his right eye. His best-corrected visual acuity in the right eye is 20/200 and in the left, 20/25. Following an examination in 2003, his ophthalmologist certified, “I feel he has sufficient vision to perform driving tasks required to operate a commercial vehicle.” Mr. Messinger reported that he has driven straight trucks for 35 years, accumulating 2.9 million miles. He holds a Class CM driver's license from Pennsylvania. His driving record shows no accidents or convictions for moving violations in a CMV during the last 3 years.

15. James M. Nelson

Mr. Nelson, 58, lost his right eye due to trauma 30 years ago. His best-corrected visual acuity in the left eye is 20/25. Following an examination in 2003, his optometrist certified, “He has had an artificial eye for 30 years, and in my medical opinion he has sufficient vision to perform the driving tasks required to operate a commercial vehicle since he has done such for several years.” Mr. Nelson reported that he has driven straight trucks for 3 years, accumulating 120,000 miles, and tractor-trailer combinations for 34 years, accumulating 3.8 million miles. He holds a Class A CDL from Tennessee. His driving record for the last 3 years shows no accidents or convictions for moving violations in a CMV.

16. Edward J. Perfetto

Mr. Perfetto, 63, has only light perception in the right eye due to a congenital defect. His best-corrected visual acuity in the left eye is 20/20. Following an examination in 2003, his ophthalmologist certified, “I believe that he has sufficient vision in his eyes to perform the driving tasks required to operate a commercial vehicle.” Mr. Perfetto reported that he has driven straight trucks for 30 years, accumulating 750,000 miles. He holds a Class B CDL from New Jersey. His driving record for the last 3 years shows no accidents and one conviction for a moving violation—“truck off truck route”—in a CMV.

17. Keith G. Reichel

Mr. Reichel, 39, has amblyopia in his left eye. His best-corrected visual acuity in the right eye is 20/20 and in the left, 20/60. Following an examination in 2003, his optometrist certified, “In my opinion Mr. Reichel has adequate vision to operate a commercial vehicle.” Mr. Reichel reported that he has driven straight trucks for 17 years, accumulating 340,000 miles. He holds a Class AM CDL from Georgia. His driving record for the last 3 years shows no accidents or convictions for moving violations in a CMV.

18. Carson E. Rohrbaugh

Mr. Rohrbaugh, 47, has amblyopia in his left eye. His best-corrected visual acuity in the right eye is 20/20 and in the left, 20/60. His optometrist examined him in 2003 and stated, “With normal visual fields and 20/20 vision in the right eye, Mr. Rohrbaugh's slightly decreased acuity would not hinder his ability to safely operate a commercial vehicle.” Mr. Rohrbaugh submitted that he has driven tractor-trailer combinations for 25 years, accumulating 557,000 miles. He holds a Class A CDL from Pennsylvania. His driving record shows no accidents or convictions for moving violations in a CMV during the last 3 years.

19. Ronald L. Roy

Mr. Roy, 39, is blind in his left eye due to an injury in 1992. His visual acuity in the right eye is 20/20. Following an examination in 2003, his ophthalmologist certified, “In my opinion, he has sufficient vision to perform the driving tasks needed to safely operate a commercial vehicle.” Mr. Roy reported that he has driven straight trucks and tractor-trailer combinations for 21 years, accumulating 525,000 miles in the former and 735,000 miles in the latter. He holds a Class AL CDL from Illinois. His driving record for the last 3 years shows no accidents and one conviction for a moving violation—exceeding the speed limit by 13 mph—in a CMV.

20. Robert E. Sanders

Mr. Sanders, 55, has amblyopia in his left eye. His best-corrected visual acuity in the right eye is 20/20 and in the left, 20/400. Following an examination in 2003, his ophthalmologist stated, “His vision is sufficient and stable to perform the driving tasks required to operate a commercial vehicle.” Mr. Sanders reported that he has driven straight trucks for 30 years, accumulating 750,000 miles, and tractor-trailer combinations for 5 years, accumulating 375,000 miles. He holds a Class A CDL from Pennsylvania. His driving record for the last 3 years shows no accidents or convictions for moving violations in a CMV.

21. Earl W. Sheets

Mr. Sheets, 38, has amblyopia in his right eye. His best-corrected visual acuity in the right eye is count fingers and in the left, 20/25. His ophthalmologist examined him in 2003 and stated, “I certify that it is my medical opinion that he has sufficient vision to perform his driving tasks while operating a commercial vehicle.” Mr. Sheets submitted that he has driven straight trucks for 2 years, accumulating 120,000 miles, and tractor-trailer combinations for 20 years, accumulating 2.2 million miles. He holds a Class A CDL from Ohio. His driving record for the last 3 years shows no accidents or convictions for moving violations in a CMV.

22. James T. Simmons

Mr. Simmons, 62, has had macular degeneration in his left eye since 1998. His best-corrected visual acuity in the right eye is 20/10 and in the left, 20/200. His ophthalmologist examined him in 2003 and certified, “This patient has sufficient vision to perform the driving tasks required to operate a commercial vehicle.” Mr. Simmons submitted that he has driven tractor-trailer combinations for 35 years, accumulating 4.2 million miles. He holds a Class A CDL from North Carolina. His driving record shows no accidents or convictions for moving violations in a CMV during the last 3 years.

23. Donald J. Snider

Mr. Snider, 54, has amblyopia in his left eye. His best-corrected visual acuity in the right eye is 20/20 and in the left, 20/200. His ophthalmologist examined him in 2003 and certified, “His situation is stable and I feel he has sufficient vision to continue operating a commercial vehicle.” Mr. Snider reported that he has driven straight trucks for 3 years, accumulating 22,000 miles. He holds a chauffeur's license from Indiana. His driving record shows no accidents or convictions for moving violations in a CMV during the last 3 years.

24. Ralphis L. Tisdale

Mr. Tisdale, 61, lost his right eye due to an injury at age 13. The visual acuity in his left eye is 20/15. Following an examination in 2002 his optometrist stated, “I believe Mr. Tisdale has sufficient vision to perform any driving tasks required of him to operate a commercial vehicle.” Mr. Tisdale reported that he has driven straight trucks for 25 years, accumulating 1.3 million miles, and tractor-trailer combinations for 7 years, accumulating 385,000 miles. He holds a Class A CDL from Arkansas. His driving record for the last 3 years shows no accidents or convictions for moving violations in a CMV.

25. Jesse L. Townsend

Mr. Townsend, 60, has amblyopia in his left eye. His best-corrected visual acuity in the right eye is 20/20 and in the left, 20/200. Following an examination in 2002, his ophthalmologist certified, “In my opinion this patient has sufficient vision to perform the driving tasks required to operate a commercial vehicle.” Mr. Townsend reported that he has driven straight trucks for 42 years, accumulating 2.9 million miles, tractor-trailer combinations for 30 years, accumulating 2.1 million miles, and buses for 5 years, accumulating 50,000 miles. He holds a Class D chauffeur's license from Louisiana. His driving record for the last 3 years shows no accidents or convictions for moving violations in a CMV.

26. Thomas A. Valik, Jr.

Mr. Valik, 38, had a tumor removed from his left eye in 1985. His visual acuity in the right eye is 20/20 and in the left, no light perception. Following an examination in 2003, his optometrist certified, “There is no visual or ocular reason why he would be unable to safely operate a commercial vehicle.” Mr. Valik submitted that he has driven straight trucks and tractor-trailer combinations for 15 years, accumulating 375,000 miles in each. He holds a Class A CDL from Michigan. His driving record shows no accidents or convictions for moving violations in a CMV during the last 3 years.

27. Thomas D. Walden

Mr. Walden, 50, has been blind in his left eye due to corneal scarring since age 9. His visual acuity in the right eye is 20/15 with correction. Following an examination in 2003, his ophthalmologist certified, “I believe that if Mr. Walden is accustomed to driving a commercial vehicle that he should meet the criteria for continuing to drive with his current ocular status.” Mr. Walden reported that he has driven straight trucks for 23 years, accumulating 1.1 million miles, and tractor-trailer combinations for 10 years, accumulating 500,000 miles. He holds a Class A CDL from Georgia. His driving record for the last 3 years shows no accidents or convictions for moving violations in a CMV.

28. James A. Welch

Mr. Welch, 41, has amblyopia in his left eye. The visual acuity in his right eye is 20/20 and in the left, 20/200. Following an examination in 2002, his optometrist certified, “Mr. Welch shows a good driving history for many years and has sufficient vision to operate a commercial vehicle.” Mr. Welch reported that he has driven straight trucks for 21 years, accumulating 1.1 million miles, and tractor-trailer combinations for 2 years, accumulating 52,000 miles. He holds a Class A CDL from New Hampshire. His driving record for the last 3 years shows one accident and no convictions for moving violations in a CMV. According to the police report, Mr. Welch's truck was struck in the rear while he was waiting to merge into traffic. Mr. Welch was not cited.

29. John M. Whetham

Mr. Whetham, 58, was born with no vision in his right eye. The best-corrected visual acuity in his left eye is 20/20. Following an examination in 2003, his optometrist certified, “In my opinion, from my examination and the visual fields, Mr. Whetham has sufficient vision to perform the driving tasks required for his commercial license.” Mr. Whetham reported that he has driven straight trucks and tractor-trailer combinations for 32 years, accumulating 256,000 miles in the former and 1.2 million miles in the latter. He holds a Class A CDL from Montana. His driving record for the last 3 years shows no accidents or convictions for moving violations in a CMV.

30. Michael E. Yount

Mr. Yount, 46, lost his left eye due to an injury at age 17. His best-corrected visual acuity in the right eye is 20/20. Following an examination in 2003, his optometrist certified, “It is my professional opinion that Mr. Yount is able to visually meet the demands of driving a commercial vehicle.” Mr. Yount reported that he has driven straight trucks for 3 years, accumulating 75,000 miles, and tractor-trailer combinations for 20 years, accumulating 1.0 million miles. He holds a Class A CDL from Idaho. His driving record for the last 3 years shows no convictions for moving violations in a CMV.

Request for Comments

In accordance with 49 U.S.C. 31315 and 31136(e), the FMCSA requests public comment from all interested persons on the exemption petitions described in this notice. We will consider all comments received before the close of business on the closing date indicated earlier in the notice.

Issued on: August 28, 2003.
Pamela M. Pelcovits,
Acting Associate Administrator, Policy and Program Development.

[FR Doc. 03-22567 Filed 9-4-03; 8:45 am]

BILLING CODE 4910-EX-P